DEPARTMENT OF ENERGY

Federal Energy Regulatory Commission

[Docket No. EL05-102-000]

Southern Company Services, Inc.; Notice of Institution of Proceeding and Refund Effective Date

May 12, 2005.

On May 5, 2005, the Commission issued an order that instituted a proceeding in Docket No. EL05-102-000, pursuant to section 206 of the Federal Power Act (FPA), 16 U.S.C. 824e, to examine alleged affiliate abuse within the Southern Companies.¹ Southern Company Services, Inc., et al., 111 FERC ¶ 61,146 (2005).

¹ Southern Companies include Southern Company Services, Inc., Alabama Power Company, Georgia Power Company, Gulf Power Company, Mississippi Power Company, Savannah Electric and Power Company and Southern Power Company. Southern Power Company is an affiliated merchant generator that does not have retail load or a franchised service territory. Southern Company Services, Inc. is the service company for the Southern system. All of these companies are owned by Southern Company, Inc. a registered public utility holding company. The holding company and affiliates are referred to collectively as Southern Companies.

The refund effective date in Docket No. EL05-102-000, established pursuant to section 206(b) of the FPA, will be 60 days from the date of publication of this notice in the Federal Register.

Magalie R. Salas,
Secretary.

[FR Doc. E5-2533 Filed 5-19-05; 8:45 am]

BILLING CODE 6717-01-P